DEPARTMENT OF HOMELAND SECURITY

Coast Guard

33 CFR Part 165

[COTP Western Alaska 02-001]

RIN 1625-AA00 (Formerly 2115-AA97)

Security Zone; Liquefied Natural Gas Tankers, Cook Inlet, AK

AGENCY: Coast Guard, DHS.

ACTION: Final rule.

SUMMARY: The Coast Guard adopts, as final, the interim rule published in July 2002 that established security zones for Liquefied Natural Gas (LNG) tankers in Cook Inlet, AK, within the Western Alaska Marine Inspection Zone and Captain of the Port Zone. This final rule includes an effective information collection requirement calling for vessel and crew information from the owners or operators of commercial fishing vessels desiring to fish within the security zone.

DATES: On September 4, 2002, OMB approved the collection of information required by 33 CFR 165.1709(b)(1)(ii) as published on July 1, 2002. This final rule is effective April 24, 2003.

ADDRESSES: Comments and material received from the public, as well as documents indicated in this preamble as being available in the docket, are part of docket (COTP Western Alaska 02-001) and are available for inspection or copying at Coast Guard Marine Safety Office Anchorage, AK between 7:30 a.m. and 4 p.m., Monday through Friday, except Federal holidays.

FOR FURTHER INFORMATION CONTACT: Lieutenant Mark McManus, USCG Marine Safety Detachment Kenai, at (907) 283-3292 or Lieutenant Commander Chris Woodley, USCG Marine Safety Office Anchorage, at (907) 271-6700.

SUPPLEMENTARY INFORMATION:

Regulatory Information

On July 1, 2002 we published an interim rule with requests for comments entitled “Security Zone, Liquefied Natural Gas Tankers, Cook Inlet, AK” in the Federal Register (67 FR 44057). We received no comments. No public hearing was requested, and none was held.

Background and Purpose

In its July 2002 interim rule, the Coast Guard established 1000-yard security zones around LNG tankers to safeguard the tankers, Nikiski marine terminals, the community of Nikiski, and the maritime community from sabotage or subversive acts and incidents of a similar nature. Paragraph 33 CFR 165.1709(b)(1)(ii) of that interim rule was not made effective because the Office of Management and Budget had not yet approved the collection of information called for by that paragraph. On September 4, 2002, OMB approved the collection of information. We are therefore adopting the interim rule as final and making paragraph 33 CFR 165.1709(b)(1)(ii) effective.

You can find more detailed background information in the preamble of the interim rule (67 FR 44057) under SUPPLEMENTARY INFORMATION.

Regulatory Evaluation

This rule is not a “significant regulatory action” under section 3(f) of Executive Order 12886, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. This finding is based on the minimal time that vessels will be restricted from the zone, that vessels may still transit through the waters of Cook Inlet and dock at other Nikiski marine terminals.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in the vicinity of the Phillips Petroleum LNG Pier during the time this zone is activated; and the owners or operators of fishing vessels operating their nets in the vicinity of the Phillips Petroleum LNG Pier during the months of July through August.

These security zones will not have a significant economic impact on a substantial number of small entities for the following reasons. Marine traffic will still be able to transit through Cook Inlet during the zones' activation. Additionally, vessels with cargo to load or unload from other Nikiski marine terminals in the vicinity of the zone will not be precluded from mooring at or getting underway from the terminals. The owners of fishing vessels that typically fish in the vicinity of the LNG pier during the summer months will not be prohibited from operating if they notify and provide information to the Coast Guard Marine Safety Detachment in Kenai before fishing in the security zone. The Coast Guard will collect information from them that is essential to keeping the pier secure from sabotage or subversive activities.

Collection of Information

The Captain of the Port, Western Alaska requires information on fishing vessel owners and operators, and their vessels and crew, desiring to fish in the security zone around the Phillips Petroleum LNG Pier. This information is required to ensure port and vessel safety and security, to ensure uninterrupted fishing industry openings, to control vessel traffic, develop contingency plans, and enforce regulations. This collection of information is controlled by the Office of Management and Budget (OMB) under OMB control no. 1625-0043 (Formerly 2115-0540).

Recently, security zones were established for LNG tankers in Cook Inlet, AK through an interim rule published in the Federal Register on July 1, 2002 (67 FR 44057). A copy is available in the docket [COTP Western Alaska 02-001] under ADDRESSES or electronically through a Web site at http://www.archives.gov/federal_register/.

It became effective on July 6, 2002, with the exception of one paragraph, 33 CFR 165.1709(b)(1)(ii), which contains collection of information requirements. This rule modified an existing collection of information under the Paperwork Reduction Act of 1995 (44 U.S.C. 3501-3520).

As required by 44 U.S.C. 3507(d), we submitted a copy of the interim rule (which we have adopted as the final rule without change) to the Office of Management and Budget (OMB) for its review of the collection of information. On September 4, 2002, after reviewing the rule and the overall collection of information burden under OMB Control Number 1625-0043 (Formerly 2115-0540), OMB approved the collection of information required under this rule. The section number is 33 CFR 165.1709, and the corresponding approval number from OMB is OMB Control Number 1625-0043, which expires on September 30, 2005.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Consultation and Coordination With Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this final rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that under figure 2-1, paragraph 34(g), of Commandant Instruction M16475.1D, this rule is categorically excluded from further environmental documentation. This rule fits paragraph 34(g) as it establishes a security zone. A “Categorical Exclusion Determination” is available in the docket for inspection or copying where indicated under ADDRESSES.

List of Subjects in 33 CFR Part 165

Harbors, Marine safety, Navigation (water), Reporting and recordkeeping requirements, Security measures, Waterways.

PART 165—REGULATED NAVIGATION AREAS AND LIMITED ACCESS AREAS

Accordingly, the interim rule amending 33 CFR part 165 that was published at 67 FR 44059 on July 1, 2002, is adopted as a final rule without change.

Dated: February 26, 2003.
H. Mark Hamilton,
Commander, Coast Guard, Acting Captain of the Port, Western Alaska.

[FR Doc. 03-6981 Filed 3-24-03; 8:45 am]

BILLING CODE 4910-15-P